DEPARTMENT OF HEALTH AND HUMAN SERVICES

Health Resources and Services Administration

Agency Information Collection Activities: Proposed Collection: Public Comment Request Information Collection Request Title: Ryan White HIV/AIDS Program Core Medical Services Waiver Application Requirements, OMB No. 0915-0307—Extension

AGENCY: Health Resources and Services Administration (HRSA), Department of Health and Human Services.

ACTION: Notice.

SUMMARY: In compliance with the requirement for opportunity for public comment on proposed data collection projects of the Paperwork Reduction Act of 1995, HRSA announces plans to submit an Information Collection Request (ICR), described below, to the Office of Management and Budget (OMB). Prior to submitting the ICR to OMB, HRSA seeks comments from the public regarding the burden estimate, included below, or any other aspect of the ICR.

DATES: Comments on this ICR should be received no later than October 15, 2019.

ADDRESSES: Submit your comments to paperwork@hrsa.gov or mail the HRSA Information Collection Clearance Officer, Room 14N136B, 5600 Fishers Lane, Rockville, Maryland 20857.

FOR FURTHER INFORMATION CONTACT: To request more information on the proposed project or to obtain a copy of the data collection plans and draft instruments, email paperwork@hrsa.gov or call Lisa Wright-Solomon, the HRSA Information Collection Clearance Officer, at (301) 443-1984.

SUPPLEMENTARY INFORMATION: When submitting comments or requesting information, please include the information request collection title for reference.

Information Collection Request Title: Ryan White HIV/AIDS Program (RWHAP) Core Medical Services Waiver Application Requirements, OMB No. 0915-0307—Extension

Abstract: Title XXVI of the Public Health Service (PHS) Act, as amended by the Ryan White HIV/AIDS Treatment Extension Act of 2009 (RWHAP), requires that grant recipients expend funds on core medical services including antiretroviral drugs for individuals with HIV who are eligible under the legislation. In addition, no less than 75 percent of the remainder of the total award amount after reserving statutory permissible amounts for administrative and clinical quality management costs are to be expended on core medical services.¹ For a grant recipient under the RWHAP Parts A, B, or C to be exempted from this requirement, a waiver must be requested from HRSA and submitted to the agency for review and approval in accordance with statute.

¹ Sections 2604(c)(1), 2612(b)(1), and 2651(c)(1) of the PHS Act.

On October 25, 2013, HRSA published revised standards for core medical services waiver requests in the Federal Register (78 FR 63990). These revised standards allow grant recipients flexibility to adjust resource allocation based on the current situation in their local environments. These standards ensure that grant recipients receiving waivers demonstrate the availability of core medical services, including antiretroviral drugs, for persons with HIV served under the HRSA RWHAP. The core medical services waiver request process applies to RWHAP grant applicants and recipients under Parts A, B, and C of Title XXVI of the PHS Act. Core medical services waivers are effective for a 1-year period. Grant applicants may submit a waiver request before, or with the annual grant application, and grant recipients can submit up to four months after the grant award has been made.

Need and Proposed Use of the Information: HRSA uses the documentation submitted in core medical services waiver requests to determine if the grant applicant or recipient meets the statutory requirements for waiver eligibility including: (1) No waiting lists for AIDS Drug Assistance Program services; and (2) evidence of core medical services availability within the grant recipient's jurisdiction, state, or service area to all persons with HIV identified and eligible under Title XXVI of the PHS Act.²

² Sections 2604(c)(2), 2612(b)(2), and 2651(c)(2) of the PHS Act.

Likely Respondents: RWHAP Parts A, B, and C grant applicants and recipients.

Burden Statement: Burden in this context means the time expended by persons to generate, maintain, retain, disclose or provide the information requested. This includes the time needed to review instructions; to develop, acquire, install, and utilize technology and systems for the purpose of collecting, validating, and verifying information, processing and maintaining information, and disclosing and providing information; to train personnel and to be able to respond to a collection of information; to search data sources; to complete and review the collection of information; and to transmit or otherwise disclose the information. Total annual burden hours estimated for this ICR are summarized in the table below.

Total Estimated Annualized Burden Hours
Form name | Number of respondents | Number of responses per respondent | Total responses | Average burden per response (in hours) | Total burden hours
Waiver Request | 20 | 1 | 20 | 5.5 | 110
Total | 20 |  | 20 |  | 110

HRSA specifically requests comments on (1) the necessity and utility of the proposed information collection for the proper performance of the agency's functions, (2) the accuracy of the estimated burden, (3) ways to enhance the quality, utility, and clarity of the information to be collected, and (4) the use of automated collection techniques or other forms of information technology to minimize the information collection burden.

Maria G. Button,
Director, Division of the Executive Secretariat.

[FR Doc. 2019-17509 Filed 8-14-19; 8:45 am]

BILLING CODE 4165-15-P